DEPARTMENT OF COMMERCE

National Oceanic and Atmospheric Administration

[I.D. 050304D]

Pacific Fishery Management Council, Public Meeting

AGENCY: National Marine Fisheries Service (NMFS), National Oceanic and Atmospheric Administration (NOAA), Commerce.

ACTION: Notice of a public meeting.

SUMMARY: The economic and groundfish subcommittees of the Pacific Fishery Management Council's (Council) Scientific and Statistical Committee (SSC) will hold a work session to review analytical portions of the Environmental Impact Statement (EIS) for Groundfish Essential Fish Habitat (EFH). The work session is open to the public.

DATES: The subcommittees will meet from 1 p.m. until 5 p.m. on Monday, May 24, 2004. The meeting will continue on Tuesday, May 25, 2004 from 9 a.m. until business for the day is completed.

ADDRESSES: The work session will be held at NMFS Alaska Fisheries Science Center, Room 2039, 7600 Sand Point Way N.E., Building 4, Seattle, WA 98115; telephone: 206-526-4000.

Council address: Pacific Fishery Management Council, 7700 NE Ambassador Place, Suite 200, Portland, OR 97220-1384.

FOR FURTHER INFORMATION CONTACT: Mr. Dan Waldeck, Staff Officer: 503-820-2280.

SUPPLEMENTARY INFORMATION: The purpose of this work session is to review technical components of the EIS for EFH under the Pacific Coast Groundfish Fishery Management Plan. NMFS, in cooperation with the Council, is developing an EIS for EFH under the Pacific Coast Groundfish Fishery Management Plan. As a precursor to the EFH EIS, a risk assessment is being developed. The Council's Ad Hoc Technical Review Committee has facilitated development of the risk assessment process through a series of public meetings. A significant output of the risk assessment is an analytical tool composed of geo-referenced Bayesian Network models designed to assist the Council in developing (and comparing the consequences of) management alternatives related to the EFH EIS. The EFH identification component of the risk assessment model was reviewed by the SSC in February and April 2004. Currently, as the Council prepares for actions related to the EFH EIS, the SSC, in their role of ensuring Council decisions are informed by the best available science, will review the fishing impacts component of the EFH risk assessment process and model. The SSC will report their findings at the June 2004 Council meeting.

Entry to the Alaska Fisheries Science Center requires identification with a photograph (such as a student ID, state drivers license, etc.) A security guard will review the identification and issue a Visitor's Badge valid for the date of the meeting.

Although nonemergency issues not contained in this notice may come before the SSC subcommittees for discussion, those issues may not be the subject of formal action during this meeting. SSC subcommittee action will be restricted to those issues specifically listed in this notice, and any issues arising after publication of this notice that require emergency action under section 305(c) of the Magnuson-Stevens Fishery Conservation and Management Act, provided the public has been notified of the subcommittees' intent to take final action to address the emergency.

Special Accommodations

The meeting is physically accessible to people with disabilities. Requests for sign language interpretation or other auxiliary aids should be directed to Ms. Carolyn Porter at 503-820-2280 at least 5 days prior to the meeting date.

Dated: May 4, 2004.
Alan D. Risenhoover,
Acting Director, Office of Sustainable Fisheries, National Marine Fisheries Service.

[FR Doc. E4-1033 Filed 5-6-04; 8:45 am]

BILLING CODE 3510-22-S